DEPARTMENT OF DEFENSE

Department of the Navy

[Docket ID: USN-2023-HQ-0005]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by July 13, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Navy CHINFO Quarterly Brand Opinion Survey; OMB Control Number 0703-GLPS.

Type of Request: Existing collection in use without an OMB Control Number.

Number of Respondents: 4,000.

Responses per Respondent: 1.

Annual Responses: 4,000.

Average Burden per Response: 15 minutes.

Annual Burden Hours: 1,000.

Needs and Uses: The Navy Chief of Information (CHINFO) is required to provide public affairs advice to the Secretary of the Navy and the Chief of Naval Operations. In order to provide informed advice, it is critical that CHINFO be able to assess the current communication environment, including current public opinion of the U.S. Navy and its operations, the popular media or social influencers of that environment, and recent trends that have changed that environment. This is done by conducting recurrent surveys to determine what Americans understand about their Navy and how this understanding changes over time. This survey research is directed in OPNAV Instruction 5726.8C, “Outreach: America's Navy.” Responses to the survey questions allow CHINFO to assess current public perceptions of the U.S. Navy. Understanding these perceptions allows CHINFO to better advise U.S. Navy senior leaders on actions to take or avoid as well as better gauge how emerging issues will be perceived by the public. This information also helps CHINFO plan its communication strategies around the release of information.

Affected Public: Individuals or households.

Frequency: Quarterly.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: June 5, 2023.
Aaron T. Siegel,
Alternate OSD Federal Register Liaison Officer, Department of Defense.

[FR Doc. 2023-12647 Filed 6-12-23; 8:45 am]

BILLING CODE 5001-06-P